DEPARTMENT OF AGRICULTURE

Office of the Secretary

Increase in Fiscal Year 2015 Refined Sugar Tariff-Rate Quota

AGENCY: Office of the Secretary, USDA.

ACTION: Notice.

SUMMARY: The Office of the Secretary of the Department of Agriculture is providing notice of an increase in the fiscal year (FY) 2015 refined sugar tariff-rate quota (TRQ) of 20,000 metric tons raw value (MTRV), all of which will be reserved for specialty sugars.

DATES: Effective: June 15, 2015.

FOR FURTHER INFORMATION CONTACT: Souleymane Diaby, Import Policies and Export Reporting Division, Foreign Agricultural Service, Department of Agriculture, 1400 Independence Avenue SW., AgStop 1021, Washington, DC 20250-1021; by telephone (202) 720-2916; by fax (202) 720-0876.

SUPPLEMENTARY INFORMATION: The Office of the Secretary of the Department of Agriculture is providing notice of an increase in the FY 2015 (October 1, 2014-September 30, 2015) refined sugar TRQ with all 20,000 MTRV reserved for specialty sugar. Imports of all specialty sugar will be administered on a first-come, first-served basis. This additional tranche is reserved for organic sugar and other specialty sugars not currently produced commercially in the United States or reasonably available from domestic sources. The sucrose content, by weight in the dry state, of such sugar must have a polarimeter reading of 99.5 degrees or more. Entries of specialty sugar under this additional tranche will be permitted beginning July 10, 2015. The previously announced tranche of 22,050 MTRV opening on July 10, 2015, will remain unchanged.

On September 4, 2014, the Office of the Secretary announced the establishment of the in-quota quantity of the FY 2015 refined sugar TRQ at 127,000 MTRV. (79 FR 52625) This amount included the minimum level to which the United States is committed under the WTO Uruguay Round Agreements (22,000 MTRV of which 1,656 MTRV is reserved for specialty sugars) and an additional 105,000 MTRV for specialty sugars. Pursuant to Additional U.S. Note 5 to Chapter 17 of the U.S. Harmonized Tariff Schedule (HTS) and Section 359k of the Agricultural Adjustment Act of 1938, as amended, I hereby give notice of an increase in the refined sugar TRQ of 20,000 MTRV. With this increase, the overall FY 2015 refined sugar TRQ will be 147,000 MTRV, of which 126,656 MTRV is reserved for specialty sugars.

Dated: May 29, 2015.
Alexis M. Taylor,
Acting Under Secretary, Farm and Foreign Agricultural Services.

[FR Doc. 2015-14543 Filed 6-12-15; 8:45 am]

BILLING CODE 3410-10-P